DEPARTMENT OF COMMERCE

Census Bureau

Agency Information Collection Activities; Submission to the Office of Management and Budget (OMB) for Review and Approval; Comment Request; Vehicle Inventory and Use Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 15, 2022, during a 60-day comment period. This notice allows for an additional 30 days for public comments.

Agency: U.S. Census Bureau, Commerce.

Title: Vehicle Inventory and Use Survey.

OMB Control Number: 0607-0892.

Form Number(s): TC-9501, TC-9502.

Type of Request: Regular submission, Request for a Revision of a Currently Approved Collection.

Number of Respondents: 150,000.

Average Hours per Response: 65 minutes.

Burden Hours: 162,500.

Needs and Uses: The 2021 VIUS collects data to measure the physical and operational characteristics of trucks from a sample of approximately 150,000 trucks. These trucks are selected from more than 190 million private and commercial trucks registered with motor vehicle departments in the 50 states and the District of Columbia. The Census Bureau is collecting the data for the sampled trucks from the registered truck owners.

The VIUS is the only comprehensive source of information on the physical and operational characteristics of the Nation's truck population. The VIUS provides unique, essential information for government, business, and academia. The U.S. Department of Transportation, State Departments of Transportation, and transportation consultants compliment VIUS microdata as extremely useful and flexible to meet constantly changing requests that cannot be met with predetermined tabular publications. The planned microdata file will enable them to cross-tabulate data to meet their needs.

This revision is being submitted to correct the legal citations related to the collection authority for the Vehicle Inventory and Use Survey (VIUS). We initially received clearance to add the corrected citation using the emergency clearance process, which was approved separately. The emergency clearance was necessary because we needed to implement the change immediately during data collection for the survey. This revision is to now add Title 13 U.S.C., Section 221 to the collection authority under the original clearance and to allow a full review at OMB.

Affected Public: Individuals or households; Business or other for-profit organizations.

Frequency: One time.

Respondent's Obligation: Mandatory.

Legal Authority: The VIUS will be collected under the authority of Title 13 U.S.C. 131 and 182, which authorize the collection, and Sections 221, 224 and 225, which make the collection mandatory for all respondents.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0892.

Sheleen Dumas,
Department PRA Clearance Officer, Office of the Chief Information Officer, Commerce Department.

[FR Doc. 2022-13305 Filed 6-21-22; 8:45 am]

BILLING CODE 3510-07-P